DEPARTMENT OF TRANSPORTATION

Federal Aviation Administration

14 CFR Part 91

[Docket No. FAA-2006-25714; Notice No. 07-01]

Unmanned Aircraft Operations in the National Airspace System

AGENCY: Federal Aviation Administration (FAA), DOT.

ACTION: Notice of policy; opportunity for feedback.

SUMMARY: This document clarifies the FAA's current policy concerning operations of unmanned aircraft in the National Airspace System.

FOR FURTHER INFORMATION CONTACT: Kenneth D. Davis, Manager, Unmanned Aircraft Program Office, Aircraft Certification Service, Federal Aviation Administration, 800 Independence Avenue, SW., Washington, DC 20591, (202) 385-4636, e-mail: kenneth.d.davis@faa.gov.

Background

Simply stated, an unmanned aircraft is a device that is used, or is intended to be used, for flight in the air with no onboard pilot. These devices may be as simple as a remotely controlled model aircraft used for recreational purposes or as complex as surveillance aircraft flying over hostile areas in warfare. They may be controlled either manually or through an autopilot using a data link to connect the pilot to their aircraft. They may perform a variety of public services: Surveillance, collection of air samples to determine levels of pollution, or rescue and recovery missions in crisis situations. They range in size from wingspans of six inches to 246 feet; and can weigh from approximately four ounces to over 25,600 pounds. The one thing they have in common is that their numbers and uses are growing dramatically. In the United States alone, approximately 50 companies, universities, and government organizations are developing and producing some 155 unmanned aircraft designs. Regulatory standards need to be developed to enable current technology for unmanned aircraft to comply with Title 14 Code of Federal Regulations (CFR).

The Federal Aviation Administration's current policy is based on whether the unmanned aircraft is used as a public aircraft, civil aircraft or as a model aircraft.

Unmanned Aircraft Systems Operating as Public Aircraft

The most common public use of unmanned aircraft today in the United States is by the Department of Defense. U.S. operations in Iraq, Afghanistan and elsewhere have fueled a huge increase in unmanned aircraft demand. In Iraq alone, more than 700 unmanned aircraft are in use for surveillance and weapons delivery.

Other agencies have also found public uses for unmanned aircraft. For example, the Customs and Border Protection uses them to patrol along the US/Mexican border. In the future, unmanned aircraft could be used to provide first responder reports of damage due to weather or other catastrophic causes.

In response to this growing demand for public use unmanned aircraft operations, the FAA developed guidance in a Memorandum titled “Unmanned Aircraft Systems Operations in the U.S. National Airspace System—Interim Operational Approval Guidance” (UAS Policy 05-01). In this document, the FAA set out guidance for public use of unmanned aircraft by defining a process for evaluating applications for Certificate(s) of Waiver or Authorization (COA's) for unmanned aircraft to operate in the National Airspace System. The concern was not only that unmanned aircraft operations might interfere with commercial and general aviation aircraft operations, but that they could also pose a safety problem for other airborne vehicles, and persons or property on the ground. The FAA guidance supports unmanned aircraft flight activity that can be conducted at an acceptable level of safety. In order to ensure this level of safety, the operator is required to establish the Unmanned Aircraft System's (UAS) airworthiness either from FAA certification, a DOD airworthiness statement, or by other approved means. Applicants also have to demonstrate that a collision with another aircraft or other airspace user is extremely improbable as well as complying with appropriate cloud and terrain clearances as required. Key to the concept are the roles of pilot-in-command (PIC) and observer. The PIC concept is essential to the safe operation of manned aircraft. The FAA's UAS guidance applies this PIC concept to unmanned aircraft and includes minimum qualifications and currency requirements. The PIC is simply the person in control of, and responsible for, the UAS. The role of the observer is to observe the activity of the unmanned aircraft and surrounding airspace, either through line-of-sight on the ground or in the air by means of a chase aircraft. In general, this means the pilot or observer must be, in most cases, within 1 mile laterally and 3,000 feet vertically of the unmanned aircraft. Direct communication between the PIC and the observer must be maintained at all times. Unmanned aircraft flight above 18,000 feet must be conducted under Instrument Flight Rules, on an IFR flight plan, must obtain ATC clearance, be equipped with at least a Mode C transponder (preferably Mode S), operating navigation lights and / or collision avoidance lights and maintain communication between the PIC and Air Traffic Control (ATC). Unmanned aircraft flights below 18,000 feet have similar requirements, except that if operators choose to operate on other than an IFR flight plan, they may be required to pre-coordinate with ATC.

The FAA has issued more than 50 COA's over the past 2 years and anticipates issuing a record number of COA's this year.

For more information, Memorandum on UAS Policy (05-01) and other policy guidance is available at the FAA Web site: http://www.faa.gov/uas.

Unmanned Aircraft Systems Operating as Civil Aircraft

Just as unmanned aircraft have a variety of uses in the public sector, their application in commercial or civil use is equally diverse. This is a quickly growing and important industry. Under FAA policy, operators who wish to fly an unmanned aircraft for civil use must obtain an FAA airworthiness certificate the same as any other type aircraft. The FAA is currently only issuing special airworthiness certificates in the experimental category. Experimental certificates are issued with accompanying operational limitations (14 CFR 91.319) that are appropriate to the applicant's operation. The FAA has issued five experimental certificates for unmanned aircraft systems for the purposes of research and development, marketing surveys, or crew training. UAS issued experimental certificates may not be used for compensation or hire.

The applicable regulations for an experimental certificate are found in 14 CFR 21.191, 21.193, and 21.195. In general, the applicant must state the intended use for the UAS and provide sufficient information to satisfy the FAA that the aircraft can be operated safely. The time or number of flights must be specified along with a description of the areas over which the aircraft would operate. The application must also include drawings or detailed photographs of the aircraft. An on-site review of the system and demonstration of the area of operation may be required. Additional information on how to apply for an experimental airworthiness certificate is available from Richard Posey, AIR-200, (202) 267-9538; e-mail: richard.posey@faa.gov.

Recreational/Sport Use of Model Airplanes

In 1981, in recognition of the safety issues raised by the operation of model aircraft, the FAA published Advisory Circular (AC) 91-57, Model Aircraft Operating Standards for the purpose of providing guidance to persons interested in flying model aircraft as a hobby or for recreational use. This guidance encourages good judgment on the part of operators so that persons on the ground or other aircraft in flight will not be endangered. The AC contains among other things, guidance for site selection. Users are advised to avoid noise sensitive areas such as parks, schools, hospitals, and churches. Hobbyists are advised not to fly in the vicinity of spectators until they are confident that the model aircraft has been flight tested and proven airworthy. Model aircraft should be flown below 400 feet above the surface to avoid other aircraft in flight. The FAA expects that hobbyists will operate these recreational model aircraft within visual line-of-sight. While the AC 91-57 was developed for model aircraft, some operators have used the AC as the basis for commercial flight operations.

Policy Statement

The current FAA policy for UAS operations is that no person may operate a UAS in the National Airspace System without specific authority. For UAS operating as public aircraft the authority is the COA, for UAS operating as civil aircraft the authority is special airworthiness certificates, and for model aircraft the authority is AC 91-57.

The FAA recognizes that people and companies other than modelers might be flying UAS with the mistaken understanding that they are legally operating under the authority of AC 91-57. AC 91-57 only applies to modelers, and thus specifically excludes its use by persons or companies for business purposes.

The FAA has undertaken a safety review that will examine the feasibility of creating a different category of unmanned “vehicles” that may be defined by the operator's visual line of sight and are also small and slow enough to adequately mitigate hazards to other aircraft and persons on the ground. The end product of this analysis may be a new flight authorization instrument similar to AC 91-57, but focused on operations which do not qualify as sport and recreation, but also may not require a certificate of airworthiness. They will, however, require compliance with applicable FAA regulations and guidance developed for this category.

Feedback regarding current FAA policy for Unmanned Aircraft Systems can be submitted at http://www.faa.gov/uas. (Scroll down to the bottom of the page and find Contact UAPO. Click into this link.)

Issued in Washington, DC, on February 6, 2007.
Nicholas Sabatini,
Associate Administrator for Aviation Safety.

[FR Doc. E7-2402 Filed 2-12-07; 8:45 am]

BILLING CODE 4910-13-P